MEDICARE PAYMENT ADVISORY COMMISSION

Commission Meeting

AGENCY: Medicare Payment Advisory Commission.

ACTION: Notice of meeting.

SUMMARY: The Commission will hold its next public meeting on Thursday, December 4, 2003, and Friday, December 5, 2003, at the Ronald Reagan Building, International Trade Center, 1300 Pennsylvania Avenue, NW, Washington, DC. The meeting is tentatively scheduled to begin at 10 a.m. on December 4, and at 8 a.m. on December 5.

Topics for discussion include: quality of care; payment adequacy analyses for hospitals, physicians, outpatient dialysis, ambulatory surgical centers, home health, and skilled nursing facility; and Medicare+Choice.

Agendas will be e-mailed approximately one week prior to the meeting. The final agenda will be available on the Commission's web site (http://www.MedPAC.gov).

ADDRESSES: MedPAC's address is: 601 New Jersey Avenue, NW, Suite 9000, Washington, DC 20001. The telephone number is (202) 220-3700.

FOR FURTHER INFORMATION CONTACT: Diane Ellison, Office Manager, (202) 220-3700.

Mark E. Miller,
Executive Director.

[FR Doc. 03-29517 Filed 11-25-03; 8:45 am]

BILLING CODE 6820-BW-M